Proclamation 7381 of November 17, 2000

Thanksgiving Day, 2000

By the President of the United States of America

A Proclamation

We have much to be grateful for this Thanksgiving Day. Our Nation is free, prosperous, and at peace. The remarkable growth in human knowledge and technological innovation offers real hope for defeating the age-old enemies of humanity: poverty, famine, and disease. Our dynamic economy continues to generate millions of new jobs, and, as wages rise and unemployment falls to its lowest level in more than a generation, millions of American families are sharing in the bounty of this great land for the first time.

Sharing in God's blessings is at the heart of Thanksgiving and at the core of the American spirit. At Plymouth in 1621, the Pilgrims celebrated their first harvest in the New World thanks to the generosity of their Native American neighbors. In return, the Pilgrims invited these tribal members to share in their harvest festival. At Thanksgiving this year and every year, in worship services and family celebrations across our country, Americans carry on that tradition of giving, sharing not only with family and friends, but also with those in need throughout their communities.

Every generation of Americans has benefited from the generosity, talents, efforts, and contributions of their fellow citizens. All of us have been enriched by the diverse cultures, traditions, and beliefs of the millions of people who, by birth or choice, have come to call America their home. All of us are beneficiaries of our founders' wisdom and of the service and sacrifice of our men and women in uniform. While Americans are an independent people, we are interdependent as well, and our greatest achievements are those we have accomplished together.

As we celebrate Thanksgiving, let us remember with gratitude that despite our differences in background, age, politics, or race, each of us is a member of our larger American family and that, working together, there is nothing we cannot accomplish in this promising new century.

NOW, THEREFORE, I, WILLIAM J. CLINTON, President of the United States of America, by virtue of the authority vested in me by the Constitution and laws of the United States, do hereby proclaim Thursday, November 23, 2000, as a National Day of Thanksgiving. I encourage all the people of the United States to assemble in their homes, places of worship, and community centers to share the spirit of fellowship and prayer and to reinforce the ties of family and community; to express heartfelt thanks to God for our many blessings; and to reach out in gratitude and friendship to our brothers and sisters across this land who, together, comprise our great American family.

IN WITNESS WHEREOF, I have hereunto set my hand this seventeenth day of November, in the year of our Lord two thousand, and of the Independence of the United States of America the two hundred and twenty-fifth.

wj

[FR Doc. 00-30023

Filed 11-21-00; 8:45 am]

Billing code 3195-01-P